DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than February 14, 2000.

Interested persons are invited to submit written comments regarding the subject matter of the investigations to the Director, Office of Trade Adjustment Assistance, at the address shown below, not later than February 14, 2000.

The petitions filed in this case are available for inspection at the Office of the Director, Office of Trade Adjustment Assistance, Employment and Training Administration, U.S. Department of Labor, 200 Constitution Avenue, NW, Washington, DC 20210.

Signed at Washington, DC this 3rd day of January, 2000.
Grant D. Beale,
Program Manager, Office of Trade Adjustment Assistance.

Petitions Instituted on 01/03/2000
TA-W | Subject firm (petitioners) | Location | Date of petition | Product(s)
37,214 | Fox Point Sportswear (UNITE) | Merrill, WI | 12/20/1999 | Sports Apparel.
37,215 | Item House (UFCW) | Tacoma, WA | 12/15/1999 | Men's and Women's Outerwear.
37,216 | AK Steel Corp (Wrks) | Dover, OH | 12/20/1999 | Galvanized Steel.
37,217 | Penguin Putnam Inc (Wrks) | Newbern, TN | 12/14/1999 | Distribution Center.
37,218 | Bausch & Lomb (Works) | Rochester, NY | 12/09/1999 | Contact Lens.
37,219 | Boeing Co. (The) (UAW) | Melbourne, AR | 12/20/1999 | Aircrafts.
37,220 | Owenby Co. (The) (Comp) | Tellico Plains, TN | 12/21/1999 | T-Shirts and Polo Shirts.
37,221 | Weigh-Tronix, Inc (Comp) | Fairmont, MN | 12/22/1999 | Postal Scale Systems.
37,222 | Wagener Mfg Co (Wrks) | Wagener, SC | 12/09/1999 | Robes, Wraps, Beachwear.
37,223 | Linden Apparel (Comp) | Allentown, PA | 12/22/1999 | Men's, Ladies' & Children's Knitwear.

[FR Doc. 00-2500 Filed 2-3-00 8:45 am]

BILLING CODE 4510-30-M